DEPARTMENT OF THE INTERIOR

National Park Service

[NPS-WASO-NAGPRA-NPS0034366; PPWOCRADN0-PCU00RP14.R50000]

Notice of Inventory Completion: Eastern Washington University, Cheney, WA

AGENCY: National Park Service, Interior.

ACTION: Notice.

SUMMARY: Eastern Washington University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Eastern Washington University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Eastern Washington University at the address in this notice by September 19, 2022.

FOR FURTHER INFORMATION CONTACT: Kate Valdez, NAGPRA Coordinator, Eastern Washington University, 214 Showalter Hall, Cheney, WA 99004, telephone (509) 359-3116, email vvaldez6@ewu.edu.

SUPPLEMENTARY INFORMATION: Notice is here given in accordance with the Native American Graves Protection and Repatriation Act (NAGPRA), 25 U.S.C. 3003, of the completion of an inventory of human remains and associated funerary objects under the control of the Eastern Washington University, Cheney, WA. The human remains and associated funerary objects were removed from Grant and Kittitas Counties, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Eastern Washington University professional staff in consultation with representatives of the Confederated Tribes and Bands of the Yakama Nation; Confederated Tribes of the Colville Reservation; and the Wanapum Band, a non-federally recognized Indian group. Hereafter, the Indian entities listed in this section are referred to as “The Consulted Tribes and Group.”

History and Description of the Remains

In 1920, human remains representing, at minimum, nine individuals were removed by Dr. F. S. Hall of the Washington State Museum from Graves 3, 7, 9, 14, 17, 29, 46, and an unnumbered grave at the Pot Holes Site (45GR131) in Grant County, WA. The Pot Holes Site, or Hall Site #7 (later assigned 45GR131), was located on the east bank of the Columbia River, south of Trinidad, in Grant County, Washington. “Hall Site #7” appears to have been a large and important site prior to being largely destroyed by local collectors before any systematic recovery could be attempted. The Washington State Museum accessioned all the human remains and associated funerary objects removed by Hall in November of 1920 (Accn. # 1860). In 1974, its successor, the Burke Museum, legally transferred portions of the human remains and associated funerary objects to Seattle University. In 1992, the human remains of these nine individuals and four associated funerary objects were transferred to Eastern Washington University. No known individuals were identified. The four associated funerary objects are one lot of charred wood, one mammal bone, one lot of rocks, and one lot of charcoal mixed with unidentified bone fragments.

In 1920-1921, human remains representing, at minimum, one individual were removed by F.S. Hall of the Washington State Museum from an area near Vantage Ferry in Kittitas County, WA. All the human remains removed by Hall from this site were accessioned by the Burke Museum in 1920 (Burke Accn. #1860). In 1974, the Burke Museum legally transferred portions of the human remains to Seattle University. In 1992, the human remains of this one individual were transferred to Eastern Washington University. No known individual was identified. No associated funerary objects are present.

In 1920-1921, human remains representing, at minimum, one individual were removed by F.S. Hall or his expedition team from the Washington State Museum from a cave near Pot Holes in Grant County, WA. The human remains were wrapped in a bundle of horsetails along with stone tools, harness fragments and fire-cracked rock and stored in a box. This bundle was determined to be part of Hall's expedition based on the writing on the box label, which matches other boxes from this expedition; the location, which is within the vicinity of the project area; the condition of the human remains being similar to other human remains recovered from this expedition; and the date and region of the newspaper found in the box. The expedition collection was accessioned by the Burke Museum in 1920 (Accn. #1860). In 1974, the Burke Museum legally transferred portions of the human remains to Seattle University. In 1992, the human remains of this one individual and 10 associated funerary objects were transferred to Eastern Washington University. No known individual was identified. The 10 associated funerary objects are three fragments of harness leather with rivets, one lot of newspaper fragments (dated 1920, local ads from Walla Walla, WA and Moscow, ID), one lot of horsetail bundles, four basalt flakes, and one fire-cracked rock.

NAGPRA experts representing the Confederated Tribes and Bands of the Yakama Nation, Confederated Tribes of the Colville Reservation, and the Wanapum Band identified this site as part of their traditional territory. Early and late published ethnographic documentation indicates that this was the aboriginal territory of the Moses-Columbia or Sinkiuse, and the Yakima (Daugherty 1973, Miller 1998, Mooney 1896, Ray 1936, Spier 1936), whose descendants are represented today by the Confederated Tribes of the Colville Reservation, Confederated Tribes and Bands of the Yakama Nation, and the Wanapum Band, a non-federally recognized Indian group. Museum documentation indicates that the cultural items were found in connection with the human remains. The cultural items are consistent with cultural items typically found with burials in Eastern Washington.

Determinations Made by the Eastern Washington University

Officials of the Eastern Washington University have determined that:

• Pursuant to 25 U.S.C. 3001(9), the human remains described in this notice represent the physical remains of 11 individuals of Native American ancestry.

• Pursuant to 25 U.S.C. 3001(3)(A), the 14 objects described in this notice are reasonably believed to have been placed with or near individual human remains at the time of death or later as part of the death rite or ceremony.

• Pursuant to 25 U.S.C. 3001(2), there is a relationship of shared group identity that can be reasonably traced between the Native American human remains and associated funerary objects and the Confederated Tribes and Bands of the Yakama Nation and the Confederated Tribes of the Colville Reservation (hereafter referred to as “The Tribes”).

Additional Requestors and Disposition

Lineal descendants or representatives of any Indian Tribe or Native Hawaiian organization not identified in this notice that wish to request transfer of control of these human remains and associated funerary objects should submit a written request with information in support of the request to Kate Valdez, NAGPRA Coordinator, Eastern Washington University, 214 Showalter Hall, Cheney, WA 99004, telephone (509) 359-3116, email vvaldez6@ewu.edu, by September 19, 2022. After that date, if no additional requestors have come forward, transfer of control of the human remains and associated funerary objects to The Tribes may proceed. If joined to a request from one or more of The Tribes, the Wanapum Band, a non-federally recognized Indian group may receive transfer of control of the human remains and associated funerary objects.

The Eastern Washington University is responsible for notifying The Consulted Tribes and Group that this notice has been published.

Dated: August 10, 2022.
Melanie O'Brien,
Manager, National NAGPRA Program.

[FR Doc. 2022-17763 Filed 8-17-22; 8:45 am]

BILLING CODE 4312-52-P